DEPARTMENT OF COMMERCE

International Trade Administration

[C-423-809]

Stainless Steel Plate in Coils from Belgium; Extension of Time Limit for the Final Results of Sunset Review of Countervailing Duty Order

AGENCY: Import Administration, International Trade Administration, Department of Commerce.

ACTION: Notice of Extension of Time Limit for the Final Results of Sunset Review of Countervailing Duty Order: Stainless Steel Plate in Coils from Belgium.

SUMMARY: The Department of Commerce (“the Department”) is extending the time limit for its final results in the sunset review of the countervailing duty order on stainless steel plate in coils (“SSPC”) Belgium. The Department intends to issue the final results of this sunset review on or about October 28, 2004.

EFFECTIVE DATE: October 28, 2004.

FOR FURTHER INFORMATION CONTACT: Hilary Sadler, Esq., Import Administration, International Trade Administration, U.S. Department of Commerce, 14th Street & Constitution Avenue, NW., Washington, DC 20230; telephone: (202) 482-4340.

Extension of Final Results of Reviews:

In accordance with section 751(c)(5)(B) of the Tariff Act of 1930, as amended (“the Act”), the Department may extend the time for making a determination in a sunset review if the review is “extraordinarily complicated.” The Department may treat sunset reviews as extraordinarily complicated if the issues are complex, in accordance with section 751(c)(5)(C)(ii) of the Act. As discussed below, the Department has determined that this review is extraordinarily complicated and is therefore extending the deadline for issuing the final results.

On April 1, 2004, the Department initiated a sunset review of the countervailing duty order on SSPC from Belgium. See Initiation of Five-Year (Sunset) Reviews, 69 FR 17129 (April 1, 2004). The Department, in this proceeding, determined that it would conduct an expedited sunset review of this order based on inadequate responses to the notice of initiation from respondent interested parties. The Department's final results of this review were originally scheduled for July 30, 2004 and were extended on July 29, 2004 and on September 20, 2004. The Department, however, needs additional time to consider complex issues related to the appropriate countervailing duty rate likely to prevail if the order is revoked. Specifically, the Department is considering issues surrounding the allocation periods of certain programs. Thus, because of the complex issues in this proceeding , the Department will extend the deadline for issuance of the final results. The Department intents to issue the final results on or about October 28, 2004, in accordance with sections 751(c)(5)(B) and 751(c)(5)(C)(ii) of the Act.

Dated: October 15, 2004.
Jeffrey A. May,
Acting Assistant Secretary for Import Administration.

[FR Doc. E4-2898 Filed 10-27-04; 8:45 am]

BILLING CODE 3510-DS-S